DEPARTMENT OF COMMERCE

International Trade Administration

[A-580-908, A-583-869, A-549-842]

Passenger Vehicle and Light Truck Tires From the Republic of Korea, Taiwan, and Thailand: Antidumping Duty Orders and Amended Final Affirmative Antidumping Duty Determination for Thailand

AGENCY: Enforcement and Compliance, International Trade Administration, Department of Commerce.

SUMMARY: Based on affirmative final determinations by the Department of Commerce (Commerce) and the International Trade Commission (ITC), Commerce is issuing antidumping duty orders on passenger vehicle and light truck tires (passenger tires) from the Republic of Korea (Korea), Taiwan, and Thailand. In addition, Commerce is amending its final determination with respect to passenger tires from Thailand to correct a ministerial error.

DATES: Applicable July 19, 2021.

FOR FURTHER INFORMATION CONTACT: Elfi Blum at (202) 482-0197 (Korea); Lauren Caserta at (202) 482-4737 (Taiwan); and Leo Ayala at (202) 482-3945 (Thailand) AD/CVD Operations, Enforcement and Compliance, International Trade Administration, U.S. Department of Commerce, 1401 Constitution Avenue NW, Washington, DC 20230.

SUPPLEMENTARY INFORMATION:

Background

In accordance with sections 735(d) and 777(i) of the Tariff Act of 1930, as amended (the Act), on May 27, 2021, Commerce published its affirmative final determinations in the less-than-fair-value (LTFV) investigations of passenger tires from Korea, Taiwan, and Thailand.¹ In the investigation of passenger tires from Thailand, Sumitomo Rubber (Thailand), Ltd. (SRT) submitted a timely allegation on the record that Commerce made ministerial errors in the final AD determination.² We reviewed the allegation and determined that we made ministerial errors in the final AD determination on passenger tires from Thailand. See “Amendment to the Final Determination for Thailand” section below for further discussion. On July 12, 2021, the ITC notified Commerce of its final determinations, pursuant to section 735(d) of the Act, that an industry in the United States is materially injured within the meaning of section 735(b)(1)(A)(i) of the Act by reason of LTFV imports of passenger tires from Korea, Taiwan, and Thailand.³

¹ See Passenger Vehicle and Light Truck Tires from the Republic of Korea: Final Affirmative Determination of Sales at Less Than Fair Value, 86 FR 28569 (May 27, 2021); Passenger Vehicle and Light Truck Tires from Taiwan: Final Affirmative Determination of Sales at Less Than Fair Value, 86 FR 28563 (May 27, 2021); Passenger Vehicle and Light Truck Tires from Taiwan: Final Affirmative Determination of Sales at Less Than Fair Value; Correction, 86 FR 30916 (June 10, 2021); and Passenger Vehicle and Light Truck Tires from Thailand: Final Affirmative Determination of Sales at Less Than Fair Value, 86 FR 28548 (May 27, 2021) (Thailand Final Determination).

² See SRT's Letter, “Passenger Vehicle and Light Truck Tires from Thailand: Ministerial Error Comments,” dated June 2, 2021 (Ministerial Error Allegation).

³ See ITC Notification Letter, Investigation Nos. 701-TA-647 and 731-TA-1517-1520 (Final), dated July 12, 2021 (ITC Notification Letter).

Scope of the Orders

The products covered by these orders are passenger tires from Korea, Taiwan, and Thailand. For a complete description of the scope of these orders, see the appendix to this notice.

Amendment to the Final Determination for Thailand

On June 2, 2021, Sumitomo Rubber (Thailand) Co., Ltd. (SRT) timely alleged that Commerce made certain ministerial errors in the Thailand Final Determination with respect to the duty margin assigned to SRT in the passenger tires from Thailand investigation.⁴ No other party made an allegation of ministerial errors or submitted a rebuttal to SRT's ministerial error allegation under 19 CFR 351.224(c)(3). Commerce reviewed the record and, on July 12, 2021, agreed that the errors alleged by SRT constituted ministerial errors within the meaning of section 735(e) of the Act and 19 CFR 351.224(f).⁵ Specifically, Commerce found that it made inadvertent errors in calculating SRT's variable cost of manufacturing and by incorrectly identifying in the margin program which data files to use in calculating SRT's final dumping margin. Pursuant to 19 CFR 351.224(e), Commerce is amending the Thailand Final Determination to reflect the correction of the ministerial errors, as described in the Ministerial Error Memorandum.⁶ Based on the corrections, SRT's final dumping margin rate changed from 14.62 percent to 14.59 percent. As a result, we are also revising the all-others rate from 17.08 percent to 17.06 percent. The amended estimated weighted-average dumping margins are listed in the “Estimated Weighted-Average Dumping Margins” section below.

⁴ See Ministerial Error Allegation.

⁵ See Memorandum, “Antidumping Duty Investigation of Passenger Vehicle and Light Truck Tires from Thailand: Allegation of Ministerial Errors in the Final Determination,” dated concurrently with this Federal Register notice (Ministerial Error Memorandum).

⁶ Id.

Antidumping Duty Orders

On July 12, 2021, in accordance with section 735(d) of the Act, the ITC notified Commerce of its final determinations in these investigations, in which it found that an industry in the United States is materially injured by reason of imports of passenger tires from Korea, Taiwan, and Thailand.⁷ Therefore, in accordance with section 735(c)(2) of the Act, Commerce is issuing these antidumping duty orders. Because the ITC determined that imports of passenger tires from Korea, Taiwan, and Thailand are materially injuring a U.S. industry, unliquidated entries of such merchandise from Korea, Taiwan, and Thailand, entered or withdrawn from warehouse for consumption, are subject to the assessment of antidumping duties.

⁷ See ITC Notification Letter.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of passenger tires from Korea, Taiwan, and Thailand. With the exception of entries occurring after the expiration of the provisional measures period and before publication of the ITC's final affirmative injury determinations, as further described below, antidumping duties will be assessed on unliquidated entries of passenger tires from Korea, Taiwan, and Thailand, entered, or withdrawn from warehouse, for consumption, on or after January 6, 2021, the date of publication of the Preliminary Determinations.⁸

⁸ See Passenger Vehicle and Light Truck Tires from the Republic of Korea: Preliminary Affirmative Determination of Sales at Less Than Fair Value, Postponement of Final Determination, and Extension of Provisional Measures, 86 FR 501 (January 6, 2021); Passenger Vehicle and Light Truck Tires from Taiwan: Preliminary Affirmative Determination of Sales at Less Than Fair Value, Postponement of Final Determination, and Extension of Provisional Measures, 86 FR 508 (January 6, 2021); Passenger Vehicle and Light Truck Tires from Taiwan: Amended Preliminary Determination of Sales at Less Than Fair Value, 86 FR 8885 (February 10, 2021); and Passenger Vehicle and Light Truck Tires from Thailand: Preliminary Affirmative Determination of Sales at Less Than Fair Value, Postponement of Final Determination, and Extension of Provisional Measures, 86 FR 517 (January 6, 2021) (collectively, Preliminary Determinations).

Continuation of Suspension of Liquidation and Cash Deposits

Except as noted in the “Provisional Measures” section of this notice, in accordance with section 735(c)(1)(B) of the Act, Commerce will instruct CBP to continue to suspend liquidation on all relevant entries of passenger tires from Korea, Taiwan, and Thailand. These instructions suspending liquidation will remain in effect until further notice.

Commerce will also instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed in the table below. The all-others rate applies to all producers or exporters not specifically listed, as appropriate.

Estimated Weighted-Average Dumping Margins

The estimated weighted-average dumping margins are as follows:

Korea
Exporter/producer | Estimated weighted- average dumping margin (percent)
Hankook Tire & Technology Co. Ltd | 27.05
Nexen Tire Corporation | 14.72
All Others | 21.74

Taiwan
Exporter/producer | Estimated weighted- average dumping margin (percent)
Cheng Shin Rubber Ind. Co. Ltd | 20.04
Nankang Rubber Tire Corp. Ltd | 101.84
All Others | 84.75

Thailand
Exporter/producer | Estimated weighted- average dumping margin (percent)
LLIT (Thailand) Co., Ltd | 21.09
Sumitomo Rubber (Thailand) Co., Ltd | 14.59
All Others | 17.06

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of passenger tires from Korea, Taiwan, and Thailand, Commerce extended the four-month period to six months in each of these investigations. Commerce published the preliminary determinations in these investigations on January 6, 2021.⁹

⁹ Id.

The extended provisional measures period, beginning on the date of publication of the Preliminary Determinations, ended on July 4, 2021. Therefore, in accordance with section 733(d) of the Act and our practice,¹⁰ Commerce will instruct CBP to terminate the suspension of liquidation and to liquidate, without regard to antidumping duties, unliquidated entries of passenger tires from Korea, Taiwan, and Thailand entered or withdrawn from warehouse, for consumption after July 4, 2021, the final day on which the provisional measures were in effect, until and through the day preceding the date of publication of the ITC's final affirmative injury determinations in the Federal Register. Suspension of liquidation and the collection of cash deposits will resume on the date of publication of the ITC's final determinations in the Federal Register.

¹⁰ See, e.g., Certain Corrosion-Resistant Steel Products from India, India, the People's Republic of China, the Republic of Korea and Taiwan: Amended Final Affirmative Antidumping Determination for India and Taiwan, and Antidumping Duty Orders, 81 FR 48390, 48392 (July 25, 2016).

Notification to Interested Parties

This notice constitutes the antidumping duty orders with respect to passenger tires from Korea, Taiwan, and Thailand pursuant to section 736(a) of the Act. Interested parties can find a list of antidumping duty orders currently in effect at http://enforcement.trade.gov/stats/iastats1.html.

The amended final determination and these antidumping duty orders are published in accordance with sections 735(e) and 736(a) of the Act and 19 CFR 351.224(e) and 19 CFR 351.211(b).

Dated: July 13, 2021.
Christian Marsh,
Acting Assistant Secretary for Enforcement and Compliance.

Appendix

Scope of the Orders

The scope of these orders is passenger vehicle and light truck tires. Passenger vehicle and light truck tires are new pneumatic tires, of rubber, with a passenger vehicle or light truck size designation. Tires covered by these orders may be tube-type, tubeless, radial, or non-radial, and they may be intended for sale to original equipment manufacturers or the replacement market.

Subject tires have, at the time of importation, the symbol “DOT” on the sidewall, certifying that the tire conforms to applicable motor vehicle safety standards. Subject tires may also have the following prefixes or suffix in their tire size designation, which also appears on the sidewall of the tire:

Prefix designations:

P—Identifies a tire intended primarily for service on passenger cars.

LT—Identifies a tire intended primarily for service on light trucks.

Suffix letter designations:

LT—Identifies light truck tires for service on trucks, buses, trailers, and multipurpose passenger vehicles used in nominal highway service.

All tires with a “P” or “LT” prefix, and all tires with an “LT” suffix in their sidewall markings are covered by these orders regardless of their intended use.

In addition, all tires that lack a “P” or “LT” prefix or suffix in their sidewall markings, as well as all tires that include any other prefix or suffix in their sidewall markings, are included in the scope, regardless of their intended use, as long as the tire is of a size that fits passenger cars or light trucks. Sizes that fit passenger cars and light trucks include, but are not limited to, the numerical size designations listed in the passenger car section or light truck section of the Tire and Rim Association Year Book, as updated annually. The scope includes all tires that are of a size that fits passenger cars or light trucks, unless the tire falls within one of the specific exclusions set out below.

Passenger vehicle and light truck tires, whether or not attached to wheels or rims, are included in the scope. However, if a subject tire is imported attached to a wheel or rim, only the tire is covered by the scope.

Specifically excluded from the scope are the following types of tires:

(1) Racing car tires; such tires do not bear the symbol “DOT” on the sidewall and may be marked with “ZR” in size designation;

(2) pneumatic tires, of rubber, that are not new, including recycled and retreaded tires;

(3) non-pneumatic tires, such as solid rubber tires;

(4) tires designed and marketed exclusively as temporary use spare tires for passenger vehicles which, in addition, exhibit each of the following physical characteristics:

(a) The size designation and load index combination molded on the tire's sidewall are listed in Table PCT-1R (“T” Type Spare Tires for Temporary Use on Passenger Vehicles) or PCT-1B (“T” Type Diagonal (Bias) Spare Tires for Temporary Use on Passenger Vehicles) of the Tire and Rim Association Year Book,

(b) the designation “T” is molded into the tire's sidewall as part of the size designation, and,

(c) the tire's speed rating is molded on the sidewall, indicating the rated speed in MPH or a letter rating as listed by Tire and Rim Association Year Book, and the rated speed is 81 MPH or a “M” rating;

(5) tires designed and marketed exclusively as temporary use spare tires for light trucks which, in addition, exhibit each of the following physical characteristics:

(a) The tires have a 265/70R17, 255/80R17, 265/70R16, 245/70R17, 245/75R17, 245/70R18, or 265/70R18 size designation;

(b) “Temporary Use Only” or “Spare” is molded into the tire's sidewall;

(c) the tread depth of the tire is no greater than 6.2 mm; and

(d) Uniform Tire Quality Grade Standards (“UTQG”) ratings are not molded into the tire's sidewall with the exception of 265/70R17 and 255/80R17 which may have UTQG molded on the tire sidewall;

(6) tires designed and marketed exclusively for specialty tire (ST) use which, in addition, exhibit each of the following conditions:

(a) The size designation molded on the tire's sidewall is listed in the ST sections of the Tire and Rim Association Year Book,

(b) the designation “ST” is molded into the tire's sidewall as part of the size designation,

(c) the tire incorporates a warning, prominently molded on the sidewall, that the tire is “For Trailer Service Only” or “For Trailer Use Only”,

(d) the load index molded on the tire's sidewall meets or exceeds those load indexes listed in the Tire and Rim Association Year Book for the relevant ST tire size, and

(e) either

(i) the tire's speed rating is molded on the sidewall, indicating the rated speed in MPH or a letter rating as listed by Tire and Rim Association Year Book, and the rated speed does not exceed 81 MPH or an “M” rating; or

(ii) the tire's speed rating molded on the sidewall is 87 MPH or an “N” rating, and in either case the tire's maximum pressure and maximum load limit are molded on the sidewall and either

(1) both exceed the maximum pressure and maximum load limit for any tire of the same size designation in either the passenger car or light truck section of the Tire and Rim Association Year Book; or

(2) if the maximum cold inflation pressure molded on the tire is less than any cold inflation pressure listed for that size designation in either the passenger car or light truck section of the Tire and Rim Association Year Book, the maximum load limit molded on the tire is higher than the maximum load limit listed at that cold inflation pressure for that size designation in either the passenger car or light truck section of the Tire and Rim Association Year Book;

(7) tires designed and marketed exclusively for off-road use and which, in addition, exhibit each of the following physical characteristics:

(a) The size designation and load index combination molded on the tire's sidewall are listed in the off-the-road, agricultural, industrial or ATV section of the Tire and Rim Association Year Book,

(b) in addition to any size designation markings, the tire incorporates a warning, prominently molded on the sidewall, that the tire is “Not For Highway Service” or “Not for Highway Use”,

(c) the tire's speed rating is molded on the sidewall, indicating the rated speed in MPH or a letter rating as listed by the Tire and Rim Association Year Book, and the rated speed does not exceed 55 MPH or a “G” rating, and

(d) the tire features a recognizable off-road tread design;

(8) Tires designed and marketed for off-road use as all-terrain-vehicle (ATV) tires or utility-terrain-vehicle (UTV) tires, and which, in addition, exhibit each of the following characteristics:

(a) The tire's speed rating is molded on the sidewall, indicating the rated speed in MPH or a letter rating as listed by the Tire and Rim Association Year Book, and the rated speed does not exceed 87 MPH or an “N” rating, and

(b) both of the following physical characteristics are satisfied:

(i) The size designation and load index combination molded on the tire's sidewall does not match any of those listed in the passenger car or light truck sections of the Tire and Rim Association Year Book, and

(ii) The size designation and load index combination molded on the tire's sidewall matches any of the following size designation (American standard or metric) and load index combinations:

American standard size | Metric size | Load index
26x10R12 | 254/70R/12 | 72
27x10R14 | 254/65R/14 | 73
28x10R14 | 254/70R/14 | 75
28x10R14 | 254/70R/14 | 86
30x10R14 | 254/80R/14 | 79
30x10R15 | 254/75R/15 | 78
30x10R14 | 254/80R/14 | 90
31x10R14 | 254/85R/14 | 81
32x10R14 | 254/90R/14 | 95
32x10R15 | 254/85R/15 | 83
32x10R15 | 254/85R/15 | 94
33x10R15 | 254/90R/15 | 86
33x10R15 | 254/90R/15 | 95
35x9.50R15 | 241/105R/15 | 82
35x10R15 | 254/100R/15 | 97

The products covered by these orders are currently classified under the following Harmonized Tariff Schedule of the United States (HTSUS) subheadings: 4011.10.10.10, 4011.10.10.20, 4011.10.10.30, 4011.10.10.40, 4011.10.10.50, 4011.10.10.60, 4011.10.10.70, 4011.10.50.00, 4011.20.10.05, and 4011.20.50.10. Tires meeting the scope description may also enter under the following HTSUS subheadings: 4011.90.10.10, 4011.90.10.50, 4011.90.20.10, 4011.90.20.50, 4011.90.80.10, 4011.90.80.50, 8708.70.45.30, 8708.70.45.46, 8708.70.45.48, 8708.70.45.60, 8708.70.60.30, 8708.70.60.45, and 8708.70.60.60. While HTSUS subheadings are provided for convenience and for customs purposes, the written description of the subject merchandise is dispositive.

[FR Doc. 2021-15270 Filed 7-16-21; 8:45 am]

BILLING CODE 3510-DS-P